DEPARTMENT OF ENERGY

Federal Energy Regulatory Commission

[Project No. 400-051]

Public Service Company of Colorado; Notice of Application Accepted for Filing, Soliciting Motions To Intervene and Protests, Ready for Environmental Analysis, and Soliciting Comments, Recommendations, Preliminary Terms and Conditions, and Preliminary Fishway Prescriptions

November 6, 2008.

Take notice that the following hydroelectric application has been filed with the Commission and is available for public inspection.

a. Type of Application: New Major License.

b. Project No.: P-400-051.

c. Date Filed: June 26, 2008.

d. Applicant: Public Service Company of Colorado (d/b/a Xcel Energy).

e. Name of Project: Ames Hydroelectric Project.

f. Location: The existing project is located on Lake Fork, Howard Fork, and South Fork of the San Miguel River, in San Miguel County, about 6 miles north of Telluride, Colorado. The Ames Project occupies 99 acres of the Uncompahgre National Forest.

g. Filed Pursuant to: Federal Power Act 16 U.S.C. 791 (a)-825(r).

h. Applicant Contact: Randy Rhodes, Public Service Company of Colorado, 4653 Table Mountain Drive, Golden, Colorado 80403; telephone (720) 497-2123.

i. FERC Contact: David Turner (202) 502-6091 or via e-mail at david.turner@ferc.gov.

j. The deadline for filing motions to intervene and protests, comments, recommendations, preliminary terms and conditions, and preliminary fishway prescriptions is January 5, 2009; reply comments are due February 19, 2009.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene, protests, comments, recommendations, preliminary terms and conditions, and preliminary fishway prescriptions may be filed electronically via the Internet in lieu of paper. The Commission strongly encourages electronic filings. See 18 CFR 385.2001(a)(1)(iii) and the instructions on the Commission's Web site (http://www.ferc.gov) under the “e-Filing” link.

k. This application has been accepted for filing and is ready for environmental analysis.

l. The existing project uses water that originates in two separate subbasins (Lake Fork and Howard's Fork) of the South Fork San Miguel River. The existing project, from upstream to downstream along Lake Fork and Howard's Fork, respectively, consists of the following: (1) A 44-acre reservoir (Hope Lake) that has 2,000 acre-feet of active storage capacity at a normal maximum water surface elevation of 11,910 feet; (2) a 150-foot-long, 20-foot high rock-filled, timber dam (Hope Lake dam), with a 816-foot-long, 5-foot-wide, and 6-foot-high rock tunnel that releases water from Hope Lake to Lake Fork Creek; (3) a 138-acre reservoir (Trout Lake) with 2,500 acre-feet of active storage capacity at a normal maximum water surface elevation of 9,700 feet; (4) a 570-foot-long, 30-foot-high earth-filled dam (Trout Lake dam) with a 42-inch-diameter, concrete encased steel pipe outlet that extends through the embankment; (5) a 12,650-foot-long, 42-inch to 26-inch-diameter steel pipe penstock that conveys water from Trout Lake to the Ames powerhouse; (6) a 260-foot-long, 6-foot-high earth-filled and timber crib diversion dam on the Howards Fork, with a concrete inlet structure, which diverts water from a sluiceway constructed through the embankment via a manually-operated 9-foot-wide steel slide gate at the downstream end of the sluiceway; (7) a 4,500-foot-long, 36-inch-diameter welded steel penstock; (8) a 2,000-foot-long, 18-inch-diameter steel penstock; (9) the 44-foot-long, 54-foot-wide, stone masonry Ames powerhouse that contains one 3.6 megawatt (MW) generating unit; and (10) appurtenant facilities. The project is operated both as a base-load plant and a peaking plant depending on the time of the year; the applicant does not propose any changes to project operations. The applicant is proposing new recreation facilities at Trout Lake, along with additions and deletions to the project boundary due to new land surveys and easements.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, 202-502-8659. A copy is also available for inspection and reproduction at the address in item h above.

Register online at http://www.ferc.gov/esubscribenow.htm to be notified via e-mail of new filings and issuances related to this or other pending projects. For assistance, contact FERC Online Support.

n. Anyone may submit comments, a protest, or a motion to intervene in accordance with the requirements of Rules of Practice and Procedure, 18 CFR 385.210,.211,.214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis.

o. Procedural Schedule: The application will be processed according to the following Hydro Licensing Schedule. Revisions to the schedule may be made as appropriate.

Milestone | Target date
Filing of interventions, recommendations, preliminary terms and conditions, and fishway prescriptions | January 5, 2009.
Reply comments due | February 19, 2009.
Issue draft EA | May 4, 2009.
Comments on draft EA due | June 3, 2009.
Filing of modified mandatory terms and conditions | August 3, 2009.
Issue final EA | October 14, 2009.

p. Final amendments to the application must be filed with the Commission no later than 30 days from the issuance date of this notice.

q. A license applicant must file no later than 60 days following the date of issuance of the notice of acceptance and ready for environmental analysis provided for in § 5.22: (1) A copy of the water quality certification; (2) a copy of the request for certification, including proof of the date on which the certifying agency received the request; or (3) evidence of waiver of water quality certification.

Kimberly D. Bose,
Secretary.

[FR Doc. E8-27058 Filed 11-13-08; 8:45 am]

BILLING CODE 6717-01-P